DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On March 5, 2020, OFAC determined that the property and interests in property subject to U.S. jurisdiction of the following persons are blocked under the relevant sanctions authorities listed below.

Entity

1. NICARAGUAN NATIONAL POLICE (a.k.a. POLICIA NACIONAL DE NICARAGUA; a.k.a. “NNP”), Centro Comercial Metrocentro, 2 Cuadras al Este, Edificio Faustino Ruiz (Plaza el Sol), Managua, Nicaragua [NICARAGUA] [NICARAGUA-NHRAA].

Designated pursuant to section 1(a)(i)(A) of Executive Order 13851 of November 27, 2018, “Blocking Property of Certain Persons Contributing to the Situation in Nicaragua,” 83 FR 61505, 3 CFR, 2018 Comp., p. 884 (“E.O. 13851” or the “Order”), for being responsible for or complicit in, or has directly or indirectly engaged in, serious human rights abuse in Nicaragua.

Designated pursuant to section 5(a)(1) of Nicaragua Human Rights and Anticorruption Act of 2018 (NHRAA) for being responsible for or complicit in, or responsible for ordering, controlling, or otherwise directing, or having knowingly participated in, directly or indirectly, significant acts of violence or conduct that constitutes a serious abuse or violation of human rights against persons associated with the protests in Nicaragua that began on April 18, 2018.

Individuals

1. PEREZ OLIVAS, Luis Alberto, Chinandega, Nicaragua; DOB 08 Jan 1956; POB Leon, Nicaragua; nationality Nicaragua; Gender Male; Passport C01118568 (Nicaragua) issued 16 Nov 2011 expires 16 Nov 2021 (individual) [NICARAGUA] [NICARAGUA-NHRAA].

Designated pursuant to section 1(a)(iii) of E.O. 13851 for being an official of the Government of Nicaragua or having served as an official of the Government of Nicaragua at any time on or after January 10, 2007; and pursuant to section 1(a)(ii) of E.O. 13851 for being a leader of the Nicaraguan National Police, an entity that has, or whose members have, engaged in, serious human rights abuse in Nicaragua.

Designated pursuant to section 5(a)(2)(A) of NHRAA for being a leader of the Nicaraguan National Police, an entity that has, or whose members have, engaged in, significant acts of violence or conduct that constitutes a serious abuse or violation of human rights against persons associated with the protests in Nicaragua that began on April 18, 2018.

2. URBINA, Justo Pastor, Nicaragua; DOB 29 Jan 1956; POB Nicaragua; nationality Nicaragua; Gender Male; Passport A0006405 (Nicaragua) (individual) [NICARAGUA] [NICARAGUA-NHRAA].

Designated pursuant to section 1(a)(iii) of E.O. 13851 for being an official of the Government of Nicaragua or having served as an official of the Government of Nicaragua at any time on or after January 10, 2007; and pursuant to section 1(a)(ii) of E.O. 13851 for being a leader of the Nicaraguan National Police, an entity that has, or whose members have, engaged in, serious human rights abuse in Nicaragua.

Designated pursuant to section 5(a)(2)(A) of NHRAA for being a leader of the Nicaraguan National Police, an entity that has, or whose members have, engaged in, significant acts of violence or conduct that constitutes a serious abuse or violation of human rights against persons associated with the protests in Nicaragua that began on April 18, 2018.

3. VALLE VALLE, Juan Antonio, Villa Progreso 1 Arr, Managua, Nicaragua; DOB 04 May 1962; POB Matagalpa, Nicaragua; nationality Nicaragua; Gender Male; Passport D113169 (Nicaragua) issued 05 Jan 2005 expires 04 Jul 2007 (individual) [NICARAGUA] [NICARAGUA-NHRAA].

Designated pursuant to section 1(a)(iii) of E.O. 13851 for being an official of the Government of Nicaragua or having served as an official of the Government of Nicaragua at any time on or after January 10, 2007; and pursuant to section 1(a)(ii) of E.O. 13851 for being a leader of the Nicaraguan National Police, an entity that has, or whose members have, engaged in, serious human rights abuse in Nicaragua.

Designated pursuant to section 5(a)(2)(A) of NHRAA for being a leader of the Nicaraguan National Police, an entity that has, or whose members have, engaged in, significant acts of violence or conduct that constitutes a serious abuse or violation of human rights against persons associated with the protests in Nicaragua that began on April 18, 2018.

Dated: March 5, 2020.
Andrea Gacki,
Director, Office of Foreign Assets Control.

[FR Doc. 2020-05147 Filed 3-12-20; 8:45 am]

BILLING CODE 4810-AL-P